DEPARTMENT OF COMMERCE

[I.D. 111401D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Steller Sea Lion Revisions to Alaska Federal Fisheries Permit.

Form Number(s): None.

OMB Approval Number: None.

Type of Request: Emergency.

Burden Hours: 9.

Number of Respondents: 539.

Average Hours Per Response: 1 minute.

Needs and Uses: A biological opinion under Section 7 of the Endangered Species Act identified reasonable and prudent measures that are needed to protect endangered Steller sea lions. The National Marine Fisheries Service must implement changes to the pollock, Atka mackerel, and Pacific cod fisheries in the Exclusive Economic Zone off Alaska. One of the measures is to require participants to register for participation in these fisheries and for Atka mackerel fishermen to state whether they plan to fish inside Steller sea lion critical habitat. Registration would be accomplished by the addition of a few questions to the existing Application for Federal Fisheries Permit for Alaska, which participants are already required to complete. These new registrations would be in effect on January 1, 2002 and would end for Atka mackerel on January 15, 2002.

The information submitted in the registration will be used to create platoons of vessels for Atka mackerel fishing in the critical habitat, inform participants of vessel monitoring system requirements, plan the assignment of observers, and take other actions to implement and enforce management measures.

Affected Public: Individuals or households, business or other for-profit organizations.

Frequency: Triennial.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: November 14, 2001.
Madeleine Clayton,
Departmental Paperwork Clearance Officer, Office of the Chief Information Officer.

[FR Doc. 01-28926 Filed 11-19-01; 8:45 am]

BILLING CODE 3510-22-S